DEPARTMENT OF ENERGY

Federal Energy Regulatory Commission

[Docket No. RP01-374-000]

PG&E Gas Transmission, Northwest Corporation; Notice of Proposed Change in FERC Gas Tariff

April 13, 2001.

Take notice that on April 10, 2001, PG&E Gas Transmission, Northwest Corporation (GTN) tendered for filing as part of its FERC Gas Tariff, First Revised Volume No. 1-A, Thirty-first Revised Sheet No. 4, to become effective April 1, 2001.

GTN states that the purpose of this filing is to request a reduction in its Mitigation Revenue Recovery Surcharge (MRRS) in compliance with the requirements of its Settlement in Docket Nos. RP94-149-000, et al. In addition, GTN is filing to reduce its Competitive Equalization Surcharge, which was designed to mirror the MRRS and apply to new expansion shippers subscribing to long-term firm capacity on GTN.

GTN further states that a copy of this filing has been served on GTN's jurisdictional customers and interested state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9704 Filed 4-18-01; 8:45 am]

BILLING CODE 6717-01-M